DEPARTMENT OF TRANSPORTATION

Office of the Secretary

[Docket No DOT-OST-2011-0145]

Notice of Market Assessment and Public Meeting for Digital Transportation Exchange

AGENCY: Office of the Secretary, DOT.

ACTION: Notice of Public Meeting and Request for Comments.

SUMMARY: In accordance with OMB Memoranda M10-06, “Open Government Directive,” the U.S. Department of Transportation (Department or DOT) is evaluating the feasibility and value of a new cloud-based platform to connect citizens, businesses, state and local governments, industry, entrepreneurs, researchers, and investors like never before—creating a thriving marketplace for digital transportation solutions. The Digital Transportation Exchange (DTE) will be a public exchange where citizens, businesses, state and local governments, industry, entrepreneurs, researchers, and investors will converge to find the best way to develop, fund and market the best digital products and services for the transportation industry—from very simple to very complex. Recognizing that transportation solutions are often adopted locally, this site will provide a single location for all of these local solutions to be showcased nationally, encouraging reuse, investment and improvement. DOT is seeking partners to develop, build and maintain this portal. As part of this evaluation, the Department invites the public to participate in a comment process designed to help the Department develop a feasible and high value concept for this portal and the partnership model designed to sustain it. The Department also will hold a stakeholder meeting to discuss and consider comments. Comments and suggestions from these two forums may be incorporated into a follow on procurement that will be released in 2011 to solicit partners.

DATES: The Department will receive comments from interested parties until September 23, 2011.

• Specifically, the Department will hold a stakeholder meeting beginning at 9:30 a.m. ET on September 16, 2011, at the DOT headquarters, to discuss the concept.

• Deadline to register to attend meeting in person/watch Web stream/listen by phone—September 2, 2011. Attendees are asked to RSVP for the meeting via e-mail (Open@dot.gov) and indicate how you intend to participate (via webcast, call in by phone, or in person). Additionally, please provide the following information if you intend to attend in person; if you are a U.S. Citizen please provide your name and agency/company. If you're not U.S. Citizen please provide your name, title or position, country of citizenship, date of birth, and passport number.

• Agenda released on http://www.dot.gov/open/DTE—September 12, 2011.

• Web streaming/call-in info distributed to registrants—September 12, 2011.

• Stakeholder Meeting—September 16—9:30 a.m.-2 p.m.

ADDRESSES: You may submit comments to the Department DOT-OST-2011-0145 by any of the following methods:

• Online: DTE Ideascale Community. DTE.ideascale.com. Participants can provide comments online, rate others' comments, and comment on others' comments throughout the entire comment period, starting from the release of this notice through September 23, 2011.

• Mail: Docket Management Facility; U.S. Department of Transportation, 1200 New Jersey Avenue, SE., Washington, DC 20590-0001. If you submit comments by mail and would like to know that they reached the facility, please enclose a stamped, self-addressed envelope or postcard.

• Hand Delivery or Courier: West Building, Ground Floor, Room W12-140, 1200 New Jersey Avenue, SE., Washington, DC between 9 a.m. and 5 p.m. ET., Monday through Friday, except Federal holidays.

• Fax to DOT Docket Management Facility: 202-493-2251.

• E-mail: open@dot.gov

To avoid duplication, please use only one of these five methods. The DOT encourages commenters to use to Ideascale community as the preferred comment submission method. All comments received will be posted without change to the docket in www.regulations.gov and will include any personal information you provide.

DOT encourages you to read the full concept paper and supplemental materials that describe this concept in more detail at http://www.dot.gov/open/DTE before submitting comments. If you do not have access to the Internet, you may view the materials by visiting the Docket Management Facility in Room W12-140 on the ground floor of the Department of Transportation West Building, 1200 New Jersey Avenue, SE., Washington, DC 20590, between 9 a.m. and 5 p.m., Monday through Friday, except Federal holidays.

FOR FURTHER INFORMATION CONTACT: Mrs. Kristen Baldwin, Director, Resource Management Office, Office of the Chief Information Officer, 1200 New Jersey Avenue, SE., Washington, DC 20590. E-mail: Open@dot.gov

SUPPLEMENTARY INFORMATION:

Concept Overview

The U.S. Department of Transportation (Department or DOT) is evaluating the feasibility and value of a new cloud-based platform to coordinate, develop, and showcase identified issues and resulting solutions to current issues in the Transportation industry in collaboration with the public and non-traditional industry players and entrepreneurs. The goal of the DTE initiative is to simultaneously increase the supply of transportation solutions available, through injecting private capital and expanding the industry base, and the demand for those solutions, by involving consumers of those solutions including state and local government, individual citizens, and the transportation infrastructure industry.

DTE is intended to create an exchange across the Transportation industry—connecting people and technology for transportation innovation. Stakeholders could include: Citizens, businesses, state and local governments, industry, entrepreneurs, researchers, and investors. DTE is intended to drive collaboration across these stakeholder communities by identifying existing problems, establishing a one-stop-shop for resources to develop solutions, connecting users to develop partnerships, and then showcasing those solutions. It would present a consolidated view of existing transportation-related solutions as well as issues in need of a technology solution.

The community would be managed to engage and promote ideas, report back on implemented solutions, and connect with stakeholders. While digital transportation solutions exist in the public and private sector, these technology innovations are not easily shared across political jurisdictions and potential markets, nor are these solutions matched to investors that may help them scale. DTE will “build a home” for transportation technology innovation. More specifically, the functions that DTE might provide include, but are not limited to:

Prioritizing Problems: Help identify and prioritize major transportation problems by size and intensity through ideation and crowd sourcing from citizens, industry, operators, businesses, experts and academics.

Solutions Teaming: Encourage teaming of entrepreneurs, developers, experts and government entities to create innovative digital transportation strategies and plans for funding.

Funding and Financing: Attract attention of the investment community including angels, venture capitalists and strategic investors to digital transportation business plans for funding. Stimulate solution development through innovative funding mechanisms like prizes and competitions.

Market Development: Create a transportation focused service provider exchange consisting of legal, marketing, communications, accounting and other expertise. Increase the supply of solutions by involving non-traditional actors as well as the demand by drawing the attention of users and investors.

DOT is seeking partners to develop, build and maintain the DTE. Although the DOT will act as a partner in the management of the exchange, DTE will utilize strategic partnerships with industry leaders to provide an externally hosted solution. DOT is potentially looking to develop a public-private partnership to support this work. Partners would be expected to stand-up and sustain a business model over time, understanding DOT may not have funding to contribute. Please see the detailed description of this concept on http://www.dot.gov/open/DTE before submitting comments.

Stakeholder Participation and Request for Comments

DOT is interested in general comments pertaining to the concept paper and is also particularly interested in comments about the following questions:

• How would you use the DTE? What transportation topics should the DTE focus on? How do you think the concepts of using shared/interactive technology (DTE) can best be used in the transportation industry?

• Given what you currently know about the use of DTE related concepts, are there any additional functions that would be needed for you to use it most effectively?

• Can you suggest specific opportunities to build public/private partnerships as they relate to the DTE?

• How can in-person/face to face interactions compliment the online DTE? If so, what kinds of activities would best connect people and technology to stimulate transportation innovation?

• Who are the critical partners that should be involved in launching and maintaining the DTE to ensure its success?

• In your opinion, what are the greatest challenges for integrating the use of shared/interactive technology (DTE) in the transportation industry?

• What strategies would you use to stimulate innovation in this era of using shared/interactive technology in the transportation arena?

The preferred method for the submission of comments on these questions is through the ideascale site (DTE.ideascale.com) or at the public meeting, though alternative methods for submitting comments are described earlier in this notice.

Stakeholder Meeting Procedures

The meeting will begin with a discussion of Department's preliminary concept for DTE and a summary of comments received to date. After that, we plan to facilitate focused discussions on the issues identified earlier in this notice. The Department's Director of Public Engagement will preside over the meeting. Other senior officials will participate in this meeting as well to discussion issues pertaining to this project concept with stakeholders.

The meeting is designed to gather additional information for DTE concept and partnership. Therefore, the meeting will be conducted in an informal and non-adversarial manner. It is our intent that the meeting will provide an opportunity for the senior officials to interact with individuals or stakeholder representatives. To enable them to effectively participate in the meeting, they will need some information in advance. As a result, we are establishing the following process.

1. Preparing to Attend the Stakeholder Meeting:

a. Commenters are asked to RSVP for the meeting via e-mail (Open@dot.gov) by September 2, 2011 and indicate how you intend to participate (via webcast, call in by phone, or in person). Due to security requirements, all public attendees must register to ensure their access to the building. To register, contact Kristen Baldwin. If you intend to attend the meeting in person and are a U.S. citizen please RSVP with your name and agency/company. Foreign National registrants must provide your full name, title, country of citizenship, date of birth, passport number, and passport expiration date when registering. Because seating space is limited, we may have to limit attendees in order of date and time of registration.

b. Please submit any initial comments in advance of the meeting through one of the mechanisms identified earlier in this notice. The initial comments should contain enough details to permit DOT officials to sufficiently prepare responses to, ask questions about, and discuss those comments.

c. The initial comments may be augmented anytime before the end of the full comment period.

d. Anyone who needs auxiliary aids and services, such as sign language interpreters, to effectively participate in the meeting should contact Ms. Baldwin as soon as possible.

2. Stakeholder Meeting:

a. After receiving the initial stakeholder comments, the Department will organize those suggestions by topic for discussion during the public meeting.

b. The Department will hold the meeting beginning at 9:30 a.m. ET on September 16, 2011 at the Department of Transportation, West Building, Ground Floor, DOT Conference Center, Oklahoma Room, 1200 New Jersey Avenue, SE., Washington, DC. We will make a meeting outline and agenda available on http://www.dot.gov/open/DTE by September 12, 2011 in advance of the meeting.

c. Attendees are encouraged to arrive early for processing through security. All participants and attendees must enter through the New Jersey Avenue entrance (West Building—at the corner of New Jersey Avenue and M Street, SE.). Photo identification is required and Foreign National attendees must bring their passports with them. Participants or attendees who have Federal government identification will still need to register to attend. To facilitate security screening, all participants and attendees are encouraged to limit the bags and other items (laptops, cameras, etc.) they bring into the building. Anyone exiting the building for any reason will be required to re-enter through the security checkpoint at the New Jersey Avenue entrance.

d. DOT does not offer visitor parking; we suggest that attendees consider using alternative means of transportation to the building. DOT Headquarters is served by Metrorail (Navy Yard station), Metrobus, DC Circulator, and taxi service. There are a number of private parking lots near the DOT building, but the DOT cannot guarantee the availability of parking spaces.

e. For those unable to attend the meeting in person, portions will be broadcast via Web streaming (with captioning) and over a listen-only phone line. Registrants will be given the Web URL or phone number on September 16, 2011. Because the number of people who can participate in Web streaming and by phone is limited, we will provide access in order of date and time of registration.

3. Other Written Comments:

The Department will continue to accept written comments through September 23, 2011. Those who do not wish to attend the stakeholder meeting may, of course, submit comments at any time during the comment period through the other methods identified earlier in this notice.

4. Follow-up Action by DOT:

We will place a transcript or summary of the stakeholder meeting on our Web site (http://www.dot.gov/open/DTE) as soon as possible after the end of the meeting; the record will be available in the docket on http://www.regulations.gov.

DOT IdeaScale Web Site

To provide the public with alternative means of providing feedback to DOT in ways that may better suit their needs, we have created a Web site using IdeaScale that will allow submissions to DOT in a less formal manner. This Web site will provide members of the public an opportunity to submit their ideas about our concept and partnership. Participants in this site may discuss one another's ideas and agree/disagree with others. This Web site may be particularly useful for individuals and small entities that prefer a less formal method of submitting ideas to DOT. It may also assist participants in refining their suggestions and gathering additional information or data to support those suggestions.

To ensure that ideas are most useful, you should include a description of any concerns regarding the concept (e.g. it is duplicative, too costly, etc.), any supporting information (e.g., actual cost or benefit data, references to duplicative slides, etc. * * *), and comments on the particular issues identified in the concept overview section of this notice that would assist DOT in making a decision. Please also include in your comment whether you found this Web site useful for your purposes, so that we can best plan how to deploy DOT's scarce resources to most effectively reach the public in the future. To go directly to the IdeaScale Web site use the following link: DTE.ideascale.com.

Follow-Up Action by DOT

As soon as possible after the stakeholder meeting and the close of the comment period, taking account of the number of comments received and the complexity of issues raised, DOT will publish a report providing at least a brief response to the comments we receive, including a description of any further action we intend to take on the initiative's Web site at http://www.dot.gov/open/DTE.

Issue Date: August 5, 2011.
Kristen Baldwin,
Director, Business Management Office, Chief Information Officer, U.S. Department of Transportation.

[FR Doc. 2011-20397 Filed 8-10-11; 8:45 am]

BILLING CODE 4910-9X-P